DEPARTMENT OF EDUCATION

Office of Special Education and Rehabilitative Services; Special Education—Training and Information for Parents of Children with Disabilities

AGENCY: Department of Education.

ACTION: Notice of waiver.

SUMMARY: Effective February 28, 2001, the Secretary waived the requirements in Education Department General Administrative Regulations (EDGAR) at 34 CFR 75.261(a) that generally prohibit project extensions involving the obligation of additional Federal funds to enable twelve (12) Parent Training and Information Centers (PTIs) to receive funding through the end of fiscal year 2001. This action allows services provided by these grantees to continue uninterrupted until the grants are recompeted with the starting date of October 1, 2001. The Secretary intends to have October 1 to be the start date for all PTI project periods.

EFFECTIVE DATE: February 28, 2001.

FOR FURTHER INFORMATION CONTACT: For further information on the waiver under the Training and Information for Parents of Children with Disabilities Program contact Debra Sturdivant or Donna Fluke, U.S. Department of Education, 400 Maryland Avenue, SW., room 3527, Switzer Building, Washington, DC 20202-2641. Telephone: (202) 205-8038 and 205-9161, respectively. FAX: (202) 205-8105. Internet: Debra_Sturdivant@ed.gov and Donna_Fluke@ed.gov

If you use a telecommunication device for the deaf (TDD), you may call the Federal Information Relay Service (FIRS) at 1-800-877-8339.

Individuals with disabilities may obtain this document in an alternative format (e.g., Braille, large print, audiotape, or computer diskette) on request to the contact person listed in the preceding paragraph.

SUPPLEMENTARY INFORMATION: The following PTI grants expire before the end of fiscal year 2001:

AL H029M960028

CO H029M960026

KY H029M960013

ME H029M960029

MD H029M960015

NY H029M960020

PR H029M960024

MI H029M960022

CA H029M960006

CA H029M960007

CA H029M960036

CA H029M960039

In order to foster more efficient use of the Federal funds committed to the PTI program, the Secretary intends to start the project period for all PTI grants on October 1 of each year. In attaining this objective and avoiding any lapse in service to the intended beneficiaries, the Secretary must extend all of the above-referenced projects until September 30 so that the new project periods can begin October 1. However, to do so, the Secretary waived the requirement in 34 CFR 75.261(c)(2), which prohibits project period extensions that involve the obligation of additional Federal funds.

Also, because one of the project periods ended as early as February 28, the Secretary did not have sufficient time to obtain public comment on his intent to continue funding for all of these grants until the end of the fiscal year. It would be contrary to the public interest to have any service lapses for the beneficiaries currently being served by the affected PTI grants.

Waiver of Proposed Rulemaking

In accordance with the Administrative Procedure Act (5 U.S.C. 553), it is the practice of the Secretary to offer interested parties the opportunity to comment on proposed regulations. However, the waiver of the requirements in section 75.261 applicable to extension of project periods for the grants referred to above on a one-time only basis is procedural and does not establish new substantive policy. Therefore, under 5 U.S.C. 553(b)(A), proposed rulemaking is not required. In addition, for these reasons and those stated elsewhere in this Supplementary Information section, the Secretary has determined that proposed rulemaking on this waiver is unnecessary and contrary to the public interest. Thus, proposed rulemaking also is not required under 5 U.S.C. 553(b)(B).

Regulatory Flexibility Act Certification

We certify that the waiver and the activities required to extend the projects to the end of the fiscal year would not have a significant economic impact on a substantial number of small entities. The only small entities that would be affected by this proposal are the 12 PTI Centers currently receiving Federal funds whose awards expire before the end of the fiscal year.

Paperwork Reduction Act of 1980

This proposal has been examined under the Paperwork Reduction Act of 1980 and has been found to contain no information collection requirements.

Intergovernmental Review

This program is subject to the requirements of Executive Order 12372 and the regulations in 34 CFR part 79. One of the objectives of the Executive order is to foster an intergovernmental partnership and a strengthened Federalism. The Executive order relies on processes developed by State and local governments for coordination and review of proposed Federal financial assistance. In accordance with the order, we intend that this document provide early notification of the Department's specific plans and actions for this program.

Electronic Access to This Document

You may view this document, as well as all other Department of Education documents published in the Federal Register, in text or Adobe Portable Document Format (PDF) on the Internet at the following site:

www.ed.gov/legislation/FedRegister

To use PDF you must have Adobe Acrobat Reader, which is available free at the previous site. If you have questions about using PDF, call the U.S. Government Printing Office (GPO), toll free, at 1-888-293-6498; or in the Washington, DC, area at (202) 512-1530.

Note: The official version of this document is published in the Federal Register. Free Internet access to the official edition of the Federal Register and the Code of Federal Regulations is available on GPO Access at:

http://www.access.gpo.gov/nara/index.html

(Catalog of Federal Domestic Assistance Number 84.328, Training and Information for Parents of Children with Disabilities.)

Dated: March 22, 2001.
Andrew J. Pepin,
Executive Administrator, for Special Education and Rehabilitative Services.

[FR Doc. 01-7590 Filed 3-27-01; 8:45 am]

BILLING CODE 4000-01-U